DEPARTMENT OF ENERGY

Federal Energy Regulatory Commission

Notice of Commission Staff Attendance

The Federal Energy Regulatory Commission (Commission) hereby gives notice that members of the Commission's staff may attend the following meeting related to the transmission planning activities of ISO New England Inc.

ISO New England Inc. Planning Advisory Committee Meeting.

June 17, 2015, 9:30 a.m.-4:00 p.m. (Eastern Standard Time)

The above-referenced meeting will be held at: Doubletree Hotel, 5400 Computer Drive, Westborough, MA 01581.

The above-referenced meeting is open to stakeholders.

Further information may be found at: http://www.iso-ne.com/committees/planning/planning-advisory.

The discussions at the meeting described above may address matters at issue in the following proceedings:

Docket No. ER13-193, ISO New England Inc.

Docket No. ER13-196, ISO New England Inc.

Docket No. ER13-1957, ISO New England Inc. et al.

Docket No. ER13-1960, ISO New England Inc. et al.

For more information, contact Michael Cackoski, Office of Energy Market Regulation, Federal Energy Regulatory Commission at (202) 502-6169 or Michael.Cackoski@ferc.gov.

Dated: June 11, 2015.
Kimberly D. Bose,
Secretary.

[FR Doc. 2015-14870 Filed 6-16-15; 8:45 am]

BILLING CODE 6717-01-P